DEPARTMENT OF EDUCATION

34 CFR Chapter III

[Docket ID ED-2025-OSERS-0003]

Rehabilitation Training Program—National Vocational Rehabilitation Technical Assistance Center

AGENCY: Office of Special Education and Rehabilitative Services (OSERS), Department of Education.

ACTION: Proposed priority, requirements, and definitions.

SUMMARY: The Assistant Secretary for Special Education and Rehabilitative Services proposes a priority, requirements, and definitions under the Rehabilitation Training program. The Assistant Secretary may use the priority, requirements, and definitions for competitions in fiscal year (FY) 2025 and later years. We intend to use the priority, requirements, and definitions to fund a cooperative agreement to establish a national vocational rehabilitation technical assistance center (NVRTAC) to provide training and technical assistance to personnel of State VR agencies and their partners to upgrade and increase their competencies, skills, and knowledge in providing quality services and effective management of the VR program.

DATES: We must receive your comments on or before February 18, 2025.

ADDRESSES: Comments must be submitted via the Federal eRulemaking Portal at www.regulations.gov. However, if you require an accommodation or cannot otherwise submit your comments via www.regulations.gov, please contact the program contact person listed under FOR FURTHER INFORMATION CONTACT. The Department will not accept comments submitted by fax or by email or those submitted after the comment period. To ensure that we do not receive duplicate copies, please submit your comments only once. In addition, please include the Docket ID at the top of your comments.

Federal eRulemaking Portal: Go to www.regulations.gov to submit your comments electronically. Information on using Regulations.gov, including instructions for accessing agency documents, submitting comments, and viewing the docket, is available on the site under “FAQ.”

Privacy Note: The Department's policy is to make all comments received from members of the public available for public viewing in their entirety on the Federal eRulemaking Portal at www.regulations.gov. Therefore, commenters should be careful to include in their comments only information they wish to make publicly available.

FOR FURTHER INFORMATION CONTACT: Roslyn Thomas, U.S. Department of Education, 400 Maryland Avenue SW, Lyndon Baines Johnson Building, Room 4A10, Washington, DC 20202. Telephone: (202) 987-0105. Email: 84.264L@ed.gov.

If you are deaf, hard of hearing, or have a speech disability and wish to access telecommunications relay services, please dial 7-1-1.

A brief summary of the rule is available at www.regulations.gov/docket/ED-2025-OSERS-0003.

SUPPLEMENTARY INFORMATION:

Invitation to Comment: We invite you to submit comments regarding the proposed priority, requirements, and definitions. To ensure that your comments have maximum effect in developing the notice of final priority, requirements, and definitions, we urge you to clearly identify the specific priority, requirement, or definition that each comment addresses.

Specific Requests for Comment: The Department is particularly interested in comments regarding the best way for the NVRTAC to prioritize among VR agencies needing intensive training and technical assistance. We are also interested in comments regarding whether the project requirements and related activities under the proposed priority reflect the greatest needs in the field and can assist the State VR agencies to improve their program and financial management and performance.

We invite you to assist us in complying with the specific requirements of Executive Orders 12866, 13563, and 14094 and their overall requirement of reducing regulatory burden that might result from the proposed priority, requirements, and definitions. Please let us know of any ways we could reduce potential costs or increase potential benefits while preserving the effective and efficient administration of the program.

During and after the comment period, you may inspect all public comments about the proposed priority, requirements, and definitions by accessing Regulations.gov. To inspect comments in person, please contact the person listed under FOR FURTHER INFORMATION CONTACT.

Assistance to Individuals With Disabilities in Reviewing the Rulemaking Record: On request we will provide an appropriate accommodation or auxiliary aid to an individual with a disability who needs assistance to review the comments or other documents in the public rulemaking record for the proposed priority, requirements, and definitions. If you want to schedule an appointment for this type of accommodation or auxiliary aid, please contact the person listed under FOR FURTHER INFORMATION CONTACT.

Purpose of Program: The purpose of this program is to provide competitive grants, including cooperative agreements, to, or enter into contracts with, eligible entities to expand and improve the provision of vocational rehabilitation and other services authorized under the Rehabilitation Act of 1973 (Rehabilitation Act) or to further the purposes and policies in sections 2(b) and (c) of the Rehabilitation Act by supporting activities that increase the provision, extent, availability, scope, and quality of rehabilitation services under the Act. Under the Rehabilitation Act, the Rehabilitation Services Administration (RSA) Commissioner is authorized to make grants to, and enter into contracts with States and public or nonprofit agencies and organizations (including institutions of higher education (IHEs)) to support projects that assist state and other agencies in providing vocational rehabilitation and other services to individuals with disabilities to maximize their employment, independence, and integration into the community and the competitive labor market, and provide training and technical assistance designed to assist in increasing the numbers of, and upgrading the skills of, qualified personnel (especially rehabilitation counselors) who are trained in providing VR services as well as other services authorized under the Rehabilitation Act.

Assistance Listing No.: 84.264L.

Program Authority: 29 U.S.C. 772(a)(1).

Applicable Program Regulations: 34 CFR part 385.

Proposed Priority:

This document contains one proposed priority. The Department may use this priority for the FY 2025 Rehabilitation Training program competition or for any subsequent competitions.

National Vocational Rehabilitation Technical Assistance Center.

Background:

The VR program has evolved over its 100-year history and currently engages more than one million individuals with disabilities each year, nearly all of whom have significant or the most significant physical or mental impairments that seriously limit functional capacities (mobility, communication, self-care, self-direction, interpersonal skills, work tolerance, or work skills) in terms of achieving an employment outcome (Rehabilitation Services Administration, 2020). These individuals are served through 78 State VR agencies, which receive State VR Services and State Supported Employment Services program funding through grants provided by the Rehabilitation Services Administration.¹ Both programs have match requirements.²

¹ The VR program is administered by 78 VR agencies at the State level, which includes the 50 States, the District of Columbia, the Commonwealth of Puerto Rico, American Samoa, Guam, the Commonwealth of the Northern Mariana Islands, and the U.S. Virgin Islands. Section 101(a)(2) of the Rehabilitation Act provides States with flexibility in the organizational structures they choose to administer and operate the VR program, which includes the ability to establish separate agencies that serve only individuals who are blind or visually impaired. Currently, there are 22 VR agencies serving only individuals who are blind or visually impaired, 22 VR agencies serving individuals with all other disabilities, and 34 VR agencies serving individuals with all types of disabilities, including blindness and visual impairments.

² Matching requirements: (1) Federal share—Except as provided in paragraph (a)(2) of this section, the Federal share for expenditures made by the State under the vocational rehabilitation services portion of the Unified or Combined State Plan, including expenditures for the provision of vocational rehabilitation services and the administration of the vocational rehabilitation services portion of the Unified or Combined State Plan, is 78.7 percent. (2) Non-federal share: Except as provided in paragraph (b)(2) and (b)(3) of this section, expenditures made under the vocational rehabilitation services portion of the Unified or Combined State Plan to meet the non-federal share under this section must be consistent with the provisions of 2 CFR 200.306(b). For further information, please see 34 CFR 361.

The amendments to the Rehabilitation Act made by WIOA required State VR agencies to implement new program and fiscal requirements and provisions, with heightened emphasis on expanding employment and career advancement opportunities in competitive integrated employment (CIE) ³ for individuals with disabilities, including students and youth with disabilities. For example, the Rehabilitation Act requires: (1) the provision of pre-employment transition services in Section 113, requiring a reservation of a minimum of 15 percent of VR program Title I funds to be expended on students with disabilities; (2) for 50 percent of the State Supported Employment grant under Section 603 to be expended on youth with a 10 percent non-Federal match per Section 606(b)(7); (3) the addition of Section 511 limiting the use of subminimum wage, which set requirements for VR agencies to provide certain services to individuals employed or seeking employment at subminimum wage; (4) a change in the personnel standards expanding fields from which VR agencies may recruit rehabilitation professionals; and (5) a change in the standards and indicators to the WIOA common performance measures.

³ Under 34 CFR 361.5(c)(9), competitive integrated employment means work that meets the following criteria concerning (1) compensation, (2) work location, and (3) career advancement. First, individuals with disabilities must be paid at least minimum wage, but at the same rate employees without disabilities, and be eligible for benefits as provided to employees without disabilities. Second, the work location is typically found in the community and where the employee with a disability interacts during the course of their duties with other employees without disabilities and customers and vendors without disabilities. Third, employees with disabilities are provided the same opportunities for career advancement as employees without disabilities in similar positions, as appropriate.

Recruitment, retention, and turnover of VR personnel, particularly VR counselors and financial management staff, has led to increasing challenges for VR agencies. Staff deficits affect the ability to serve individuals with disabilities effectively and consistently as well as the ability to manage the complex program and fiscal requirements of the VR program. Research investigating barriers and strategies pertaining to counselor recruitment and retention reveals that the primary reasons counselors leave State VR programs are low salaries, excessive paperwork, and insufficient career/promotional opportunities. Those who leave do so for similar positions in other public agencies and non-profit agencies or, to a lesser degree, individual practices. The primary reasons counselors remain with State VR agencies are their commitment to the agency's mission and the inherent rewards of their work, as well as the employee benefits they receive with the job (Herbert, J.T. et al., 2023).

Through its monitoring activities and review of the VR services portion of the Unified or Combined State Plans required under WIOA, RSA has identified performance issues related to program and fiscal staff capacity deficits and turnover, as well as compliance issues related to financial management of the VR and Supported Employment programs.

To address these and other performance areas, RSA currently funds two VR technical assistance centers (VRTAC), the VRTAC for Quality Management (84.264J) and VRTAC for Quality Employment (84.264K). The performance period of these two VRTACs will end by September 30, 2025. In Project year 4, the intensive technical assistance provided to State VR agencies by the two VRTACs already exceeds the technical assistance centers' target goals for the entire 5-year project performance period. Most of the requests are related to fiscal and program performance monitoring, resulting from RSA's increased emphasis on service provision and fiscal management leading to increased quality and quantity of employment outcomes in CIE. Given the many challenges faced by VR agencies and the challenges associated with an evolving economy and future workforce needs, the NVRTAC will provide expanded training and technical assistance needed by State VR agencies, other service entities, and their personnel on quality management strategies and practices. This assistance will be designed to lead to program and financial compliance and continuous improvement, resulting in the provision of quality vocational rehabilitation services that will enable individuals with disabilities to maximize their opportunities to achieve CIE and self-sufficiency, while meeting employers' needs.

The proposed plan to combine two technical assistance centers into one is in the interest of improved efficiency and reduced redundancy. The closely related content and focus of two separate centers has previously led to extensive need for coordination of overlapping content and redundant overhead costs. A single center is anticipated to more comprehensively and coherently address the full range of VR agency needs.

Under the VR program, agencies must comply with several complex Federal fiscal requirements related to maintenance of effort, reallotment, reservation of funds for pre-employment transition services, and match, among others. VR agencies must understand, track, assess, and adjust, when necessary, program activities to meet these requirements while maximizing program outcomes.

Additionally, the need for improved knowledge and skill in fiscal and resource management can negatively affect the ability of VR agency personnel to meet consumer needs and prevent, where possible, the need for order of selection limiting the numbers of eligible individuals served in the VR program.

Some State VR agencies have experienced VR program challenges, including financial management and service delivery issues. For example, in FY 2022, State VR agencies returned $88 million in unused State VR Services program (Title I) funds at grant closeout, and $3.2 million in unused Supported Employment program (Title VI) funds at grant closeout. In FY 2022, 28 grantees did not provide any matching funds for their Supported Employment award, and 13 grantees did not spend any of their FY 2022 Title VI Supported Employment program funds required to be used for youth with most significant disabilities. This resulted in an unused balance of Supported Employment program Federal funds at the end of the award period. Also, States relinquished $2.45 million in Supported Employment funds during the FY 2023 reallotment period.⁴ Additionally, as of March 2024, 31 of 78 VR agencies were placed on corrective action plans to address performance deficiencies related to pre-employment transition services reserve requirements and timeliness of eligibility and Individualized Plan for Employment (IPE) development; further detail on this is on the RSA page.⁵

⁴ These data are from RSA's program data as collected in Vocational Rehabilitation Financial Report (RSA-17), Supported Employment Federal Financial Report (SF-425), and Grant Reallotment (RSA-692).

⁵ https://rsa.ed.gov/about/programs/vocational-rehabilitation-state-grants/section_107_annual_reviews.

WIOA requires the core workforce development programs, including the VR program, to report prescribed data related to 11 barriers to employment.⁶ The data indicate that individuals with disabilities receiving VR services experience multiple barriers to employment in addition to disability, and the data show that a high percentage of VR program participants have low incomes and experience long-term unemployment.

⁶ Source: U.S. Department of Labor, Employment and Training Administration, WIOA Statewide Annual Performance Report (ETA-9169) PYs 2020 through 2021.

RSA's goal for technical assistance is to support VR agencies in maximizing the use of VR and Supported Employment program funds and fostering continuous improvement in CIE outcomes achieved by individuals with disabilities, considering the unique circumstances and needs of each VR agency.

Based on data reported by VR agencies through the VR program Case Service Report (RSA-911) for program year (PY) ⁷ 2017 (July 1, 2017-June 30, 2018) and PY 2022 (July 1, 2022-June 30, 2023), the number of individuals with disabilities determined eligible for the VR program decreased from 414,531 to 354,204. Additionally, the number of participants in the VR program (those eligible individuals who received VR services under an IPE) decreased from 932,835 to 818,646.

⁷ WIOA requires that State VR programs submit an annual statewide performance report, including information on levels of performance achieved with respect to the performance indicators outlined in section 116 of the Act. These reports are due by October 1 after the completion of each Program Year (PY) (July 1-June 30). The Program Year is consistent with most states' 12-month period used for accounting and budgeting purposes. The Program Year is different from federal fiscal year that is October 1-September 30.

Although the employment rate or rehabilitation rate is no longer one of the primary indicators of performance under the Rehabilitation Act, it can provide insight into the performance of the VR program because it indicates whether participants have achieved successful employment when they exit the VR program. The VR program's employment rate decreased from 49.3 percent in PY 2017 to 44.2 percent in PY 2022. In the same period, the number of participants exiting with employment outcomes fell from 152,425 to 115,943. Relatedly, the number of participants who exited the VR program for any reason decreased from 311,748 to 256,435 in the same timeframe.

In light of these data, the Department has determined that VR agency personnel need technical assistance and training on program and resource management strategies and skills to efficiently and effectively provide VR and supported employment services to individuals with disabilities to achieve CIE, including pre-employment transition services to students with disabilities. Effectively and efficiently managing resources is critical for VR agencies to fully capitalize on the funds and staff resources needed to provide individuals with disabilities with timely services of high quality, which will forestall further declines in performance. VR personnel need to build strategies to balance the needs of all populations seeking services, including students, youth, and adults with disabilities, and to provide timely and relevant services to meet their unique needs.

The focus on serving individuals with significant and the most significant disabilities, as well as students and youth with disabilities and traditionally underserved populations, coupled with the expectations under the Rehabilitation Act to achieve CIE outcomes and career advancement, also require VR agency personnel, especially VR counselors, to learn and employ innovative service strategies and practices.

For example, recent data for PYs 2021 and 2022 provided by VR agencies through the RSA-911 indicate that approximately one-quarter (25.2 percent and 25.9 percent, respectively) of participants who were enrolled in an education or training program leading to a recognized postsecondary credential or employment achieved a measurable skill gain (MSG). An MSG is documented academic, technical, occupational, or other form of progress that participants achieve toward a recognized postsecondary credential or employment. The MSG rate is one of the primary indicators of performance under section 116 of WIOA. The VR program's performance, in the two most recent years of data collection and reporting under WIOA, suggests continued underutilization or underreporting of employment strategies and services to assist individuals with disabilities in achieving MSGs as they pursue recognized postsecondary credentials or employment.

The PY 2022 national employment rate for the VR program was 56.2 percent in the second quarter after exit. These individuals achieved median earnings of $5,130 for the quarter, which translates into annual median earnings of roughly $20,520. Based on these data, it appears the employment outlook for individuals with disabilities served by the program remains lower compared to non-disabled individuals, suggesting that there is a need for greater utilization of more effective interventions by VR personnel.⁸

⁸ FY 2022 WIOA National Performance Assessments. https://www.dol.gov/agencies/eta/performance/results/assessments.

Proposed Priority:

The NVRTAC will provide intensive training and technical assistance, targeted training and technical assistance, and universal training and technical assistance to State VR agencies that will enable VR agencies to improve VR program management and performance and, most importantly, to improve employment outcomes achieved by individuals with disabilities.

Regarding program management and performance, the NVRTAC's training and technical assistance will support the assessment, development, and enhancement of VR State agency leaders and staff knowledge, skills, and abilities to improve service delivery and employment outcomes for individuals with disabilities and to perform the following functions:

(a) Implementing State VR agency-level best practices and policies for maximizing engagement and achieving CIE for individuals with disabilities. The center will provide VR agency personnel with technical assistance on evaluating whether the management strategies they adopt have been shown to increase the percentage of participants who achieve an MSG/credential and exit the program with an employment outcome and modifying those strategies, if necessary, to achieve continuous program improvement. The NVRTAC will provide intensive training and technical assistance, targeted training and technical assistance, and universal training and technical assistance to State VR agencies to improve or develop a broad range of management policies and practices, both programmatic and fiscal, to address needs common to many agencies;

(b) Disseminating clear, consistent messages on RSA priorities for the development and implementation of sound management and financial systems and strong internal controls;

(c) Identifying strengths and weaknesses in the agency's capacity to understand factors affecting program effectiveness and timeliness (such as the ability to analyze case service data to identify trends and disparities in employment outcomes achieved by various groups of individuals with disabilities) and designing management strategies to address these deficits;

(d) Analyzing the VR agency's human resource management for inclusion of best practice for recruitment, retention, and onboarding strategies including orientation training for new VR agency directors;

(e) Understanding statutory and regulatory requirements related to performance management, including calculations for the common performance measures required under WIOA;

(f) Monitoring and improving financial and program data reporting and accuracy;

(g) Conducting performance evaluation and quality assurance improvement activities, including the use of data for performance management systems and the implementation of the common performance measures required by WIOA;

(h) Conducting strategic planning and implementing the strategies to address aspects of a strengths, weaknesses, opportunities, and threats (SWOT) assessment that pose challenges and barriers to improving service delivery and employment outcomes for individuals with disabilities, including those with significant and the most significant disabilities, students and youth with disabilities, and traditionally underserved populations;

(i) Developing and implementing effective and efficient program and fiscal policies for delivering pre-employment transition services under section 113, VR services under section 103(a), and supported employment services under title VI of the Rehabilitation Act;

(j) Implementing proactive strategies for the State VR agency to collaborate and engage with educational agencies, Centers for Independent Living, American Indian Vocational Rehabilitation agencies, and community rehabilitation programs;

(k) Implementing strategies to maximize timely and meaningful engagement of VR clients during application and eligibility determination, development of the IPE, and service delivery;

(l) Accurately addressing the required descriptions in the VR services portion of the WIOA Unified or Combined State Plan, particularly in setting goals and strategies that can improve performance;

(m) Coordinating efforts with the State Rehabilitation Council;

(n) Developing relationships with public policymakers and optimize the VR agency's presence and visibility by marketing the program in accordance with the requirements in the Guidance for Federal Financial Assistance at 2 CFR 200.467 and RSA guidance;

(o) Understanding the key resources management elements, including but not limited to financial management, human resources management, and program management and their relevance to important VR program outcomes and various cost containment measures, such as implementing an order of selection giving priority for services to individuals with the most significant disabilities, assessing the need for and impact of implementing a financial needs test and cost participation in services, and implementing the requirement to seek comparable services and benefits for certain services, among others; and

(p) Resolving corrective action plans and strategies to increase compliance and reduce future noncompliance.

Regarding effective resource management, the NVRTAC will support the assessment, development, and enhancement of staff knowledge, skills, and abilities to ensure that—

(a) Resources, including program funds and personnel, are being used for allowable purposes, are appropriately allocated, and support innovation in compliance with statutory and regulatory requirements;

(b) Internal controls and reporting systems upon which State VR agencies base fiscal and programmatic forecasting and decision-making are improved and reliable to support attainment of program goals and objectives; and

(c) Resources, including program funds and personnel, are fully used in ways that meet existing program needs, priorities, and expected employment outcomes for individuals with disabilities.

The following are TA project activities the NVRTAC will undertake to address weaknesses in resource management:

(a) Assess performance of grantees' financial management processes used to support attainment of fiscal and programmatic outcomes (for example, whether an agency's fiscal processes support the accurate tracking and reporting of non-Federal funds to maximize the drawdown of Federal award funds to support attainment of employment outcomes); and use the assessment to identify areas for improvement in fiscal processes that will assist the agency in meeting program goals.

(b) Assess personnel training and technical assistance needs to identify gaps in fiscal knowledge, skills, and abilities that prevent the agency from the effective and efficient use of resources necessary to achieve employment outcomes.

(c) Provide intensive training and technical assistance on financial planning, to maximize program resources and attainment of program goals and objectives, maximize opportunities for non-Federal sources of match, avoid potential maintenance of effort deficits and match penalties, and meet the reservation of funds requirement for pre-employment transition services.

(d) Provide technical assistance on implementing Federal, State, and program fiscal requirements, including internal controls, in an efficient and effective manner to reduce unnecessary burden and to focus efforts on program outcomes.

(e) Provide technical assistance on the identification, collection, and analysis of program and fiscal data necessary for program management and maximizing available resources to plan and support consumer services.

Proposed Project Requirements:

The Department proposes the following requirements for this program. We may apply one or more of these requirements, including one or more of the activities listed under these requirements, in any year in which this program is in effect.

Proposed Requirements:

To meet the requirements of this priority, the NVRTAC must, at a minimum, conduct the following activities through innovative approaches:

(a) Establish an advisory committee for the NVRTAC. The committee members must include individuals with disabilities, representatives from State VR agencies, individuals with VR subject matter expertise, community rehabilitation providers, individuals with subject matter expertise in assistive technology and advance technology for individuals with disabilities, and individuals with subject matter expertise in financial management and resources management for VR programs. The committee members will provide input and recommendations pertaining to the project design, project implementation, and the project evaluation. At a minimum, the committee should meet semi-annually.

(b) Establish a state-of-the-art NVRTAC website with information technology platform for communicating with State VR agencies and providing training and TA to state VR agencies' personnel. NVRTAC must ensure that all products produced by the NVRTAC and posted on the website have been developed in collaboration with RSA and meet government and industry-recognized standards for accessibility and security.

The website will serve as a key training and technical assistance delivery vehicle; peer-to-peer communication hub; stakeholder convening platform; and the central repository of information about technical assistance and training materials and resources developed and provided by the NVRTAC, including training modules for State VR agency leadership and VR counseling professionals, as well as for new employees onboarding resources. In addition, the system must have the capacity to track training completion or related records, as applicable.

(c) Conduct nationwide technical assistance and training needs assessment of State VR agencies' personnel during the first six months of the project. The needs assessment must include the areas of VR program management, financial and resource management, service delivery, and employment outcomes and should be informed by the following—

(1) Input from RSA staff, RSA monitoring reports, and State VR agency corrective action plans;

(2) Input from State VR agencies about their needs, priorities, and innovative approaches to program and resource management that lead to improved service delivery;

(3) Information regarding the latest National trends, barriers, challenges, and opportunities; and

(4) Information regarding effective and efficient program and resource management strategies, techniques, and practices that may be applicable to State VR agencies.

(d) Develop a training and technical assistance plan. Based on the results of the needs assessment, develop an overarching training and technical assistance plan that must include, at a minimum—

(1) Management strategies and practices that result in improved service delivery and employment outcomes for individuals with disabilities, including the rationale for their selection;

(2) Conceptual framework for the selected strategies and practices, including key assumptions, expectations, and presumed relationships or linkages among strategies and practices;

(3) Nature and scope of the intensive training and technical assistance, targeted training and technical assistance, and universal training and technical assistance to be provided in support of the selected strategies and practices;

(4) Protocols and timelines for requesting, obtaining, and completing training and technical assistance; and

(5) Protocols and timelines for transitioning the State VR agency's technical assistance, upon completion of the technical assistance agreement, to the designated RSA State Liaison, when appropriate.

(e) Provide intensive training and technical assistance to State VR agencies consistent with the technical assistance plan based on a review of a wide variety of information sources, including, but not limited to, RSA's monitoring reports and corresponding State VR agency corrective action plans; State audit reports; WIOA State plans, particularly the VR portion of these State plans; RSA staff feedback; and the results of comprehensive statewide needs assessments. Intensive training and technical assistance may be provided on-site, over a specified time period, under the terms of signed intensive training and technical assistance agreements between the NVRTAC and the participating State VR agencies. Numerical targets for the number of intensive training and technical assistance agreements will be included in the cooperative agreement between RSA and the NVRTAC.

The intensive training and technical assistance agreements between the NVRTAC and the requesting State VR agencies must include the following components:

(1) Management strategies and practices to be implemented by the State VR agency that are designed to improve service delivery and maximize quality employment outcomes for individuals with disabilities.

(2) Nature and scope of the training and technical assistance to be provided by the NVRTAC.

(3) Roles and responsibilities of the NVRTAC, State VR agency, RSA, and other workforce development partners, including the commitment of resources.

(4) Logic model (as defined in 34 CFR 77.1) that is specific to the intensive need being addressed and that includes performance outcomes, targets, and baselines; project activities, inputs, and outputs; and data collection and analysis commitments.

(f) Implement a plan for project evaluation, which includes a timeline for the evaluation and measurement benchmarks, that will evaluate the impact of the center's training and technical assistance on the performance of the VR agencies that received the center's services. As part of the evaluation plan, there must be a logic model that includes data elements, inputs, activities, outputs, and short-term and long-term performance indicators regarding—

(1) Quantitative outcomes resulting from the program management and employment strategies and practices, including—

(i) Timeliness of the VR processes and services;

(ii) Number of employment outcomes;

(iii)VR participants' employment or career-readiness;

(iv) Cost-effectiveness; and

(v) Sustainability;

(2) Quality, relevance, and usefulness of the project's training and technical assistance activities;

(3) Quantitative or qualitative insights about the relationship between strategies, practices, and training and technical assistance activities on critical outcomes for VR personnel, VR clients, and key partners, including through—

(i) Pre- and post-training assessments;

(ii) Focus groups; and

(iii)Success stories.

(g) Develop and implement models and materials for targeted and universal training and technical assistance for VR agency personnel, on state VR program and fiscal management, and employment strategies for individuals with disabilities, which must include the following—

(1) Integration of assistive technology and artificial intelligence tools to fuel CIE in the 21st century for individuals with disabilities;

(2) Career pathways education, internships, apprenticeships, training, and supports in high-demand occupations, including those in science, technology, engineering, and mathematics (STEM) fields, advanced technology;

(3) Registered and industry-recognized apprenticeships, pre-apprenticeships, and on-the-job training;

(4) Supported employment and customized employment;

(5) Customized training and credential programs to meet employers' demand;

(6) Self-employment and entrepreneurship, including services available under the Randolph-Sheppard Vending Facility Program;

(7) Business engagement and employer supports including dual customer models such as Progressive Employment;

(8) Practices to enhance the employment capacity of individuals with the most significant disabilities receiving supported employment services, such as the Individual Placement and Support model;

(9) Pre-employment transition services that prepare students with disabilities and transition services that prepare youth with disabilities to identify career interests through work-based learning and early career exploration opportunities, including career pathways, internships, and job shadowing, with a focus on high-demand and STEM careers;

(10) Career counseling techniques and resources, including labor market information tools such as Career Index Plus;

(11) Collaboration with workforce development partners, community rehabilitation programs, and other community-based organizations to provide the comprehensive support services that individuals with significant and the most significant disabilities, students and youth with disabilities, and traditionally underserved populations, need to succeed, such as the Integrated Resource Teams model;

(12) Approaches that encourage VR clients to consider jobs in the advanced technology fields that respond to expected labor market needs;

(13) Approaches that encourage VR clients to enter and remain engaged in the VR process, such as rapid engagement, motivational interviewing, benefits counseling, and financial empowerment training, and vehicles such as the Achieving a Better Life Experience (ABLE) tax-free accounts for individuals with disabilities and flexibilities associated with Social Security Income; and

(14) Community outreach strategies to expand the pool of potential VR applicants and referral sources, including traditionally underserved populations.

Proposed Application Requirements:

The Department proposes the following application requirements for the purpose of this priority. We may apply one or more of these requirements, including one or more of the activities listed under these requirements, in any year in which this program is in effect.

Proposed Application Requirement:

The following proposed application requirements are for the purpose of the priority. Applicants must—

(a) Provide, in the narrative section of the application under “Significance of the Project,” a landscape analysis of current challenges, opportunities, and initiatives in national VR technical assistance and training. The landscape analysis must address the following

(1) Knowledge about—

(i) State VR program challenges in performance, including barriers and trends regarding program and resource management and employment outcomes for individuals with disabilities especially those with significant and the most significant disabilities, students and youth with disabilities, and traditionally underserved populations, particularly as noted in recent RSA monitoring reports and State VR agency corrective action plans; and

(ii) Federal and State initiatives and best practices to improve program and resource management and employment outcomes for individuals with disabilities, particularly in response to requirements under WIOA.

(2) The proposed project's potential to contribute to these Federal and State initiatives by assisting State VR agencies in equipping personnel with the necessary skills and training to implement the substantive provisions of the Rehabilitation Act introduced by WIOA that are designed to improve the employment outcomes for individuals with disabilities.

(b) Provide an implementation plan. The implementation plan must describe the feasibility of the management plan to achieve project objectives and goals on time and within budget, including clearly defined responsibilities, timelines, and milestones for accomplishing project tasks and meet expected outcomes.

(c) Describe the plans to establish a state-of-the-art NVRTAC website and information technology platform.

(d) Describe plans for completing the national technical assistance and training needs assessment.

(e) Specify strategies to maximize coordination between the NVRTAC and other TA centers and seek opportunities to coordinate with other training and technical assistance investments, including those funded by the U.S. Departments of Education, Labor, and Health and Human Services, in the provision of training and technical assistance to State VR agencies.

(f) Describe the proposed evaluation plan and logic model for the project.

(g) Provide a dissemination plan. The dissemination plan must describe plans to disseminate its summative findings and results at national conferences, regional forums, or specialized meetings starting after the first year of the performance period, including cost-effective approaches such as virtual convenings, to engage State VR agencies and other potential Federal, State, local, and nongovernment partners, including—

(i) Types of events (e.g., conferences, forums, specialized meetings);

(ii) Target audience (e.g., by event type); and

(iii) Convening modes (in-person, virtual).

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Definitions

The Assistant Secretary for Special Education and Rehabilitative Services proposes the following definitions for this program to ensure that applicants have a clear understanding of how we are using these terms. We may apply these definitions in any year in which this program is in effect.

Intensive training and technical assistance means training and technical assistance provided to State VR agencies and State VR agency personnel, in consultation with RSA, primarily on-site for a specific issue and a set period of time negotiated between the State VR agency and NVRTAC. Intensive training and technical assistance is based on an ongoing relationship between the training and technical assistance center staff and State VR agencies and State VR agency personnel under the terms of a signed intensive training and technical assistance agreement.

Targeted training and technical assistance means training and technical assistance based on needs common to one or more State VR agencies and State VR agency personnel on a time-limited basis and with limited commitment of training and technical assistance center resources. Targeted training and technical assistance are delivered through virtual, or in-person methods tailored to the identified needs of the participating State VR agencies and State VR agency personnel.

Universal training and technical assistance means training and technical assistance broadly available to State VR agencies and State VR agency personnel and other interested parties through their own initiative, resulting in minimal interaction with training and technical assistance center staff. Universal training and technical assistance include generalized presentations, products, and related activities available through a website or through brief contacts with the training and technical assistance center staff.

References

Herbert, J.T., O'Shea, A., Joon Yoon, H., & Balushi, I.A. (2023). Recruitment and retention of state vocational rehabilitation counselors: A mixed methods analysis. Journal of Rehabilitation, 89(1), 61-71.

Rehabilitation Services Administration. (2020). The State Vocational Rehabilitation Services Program—The First 100 Years. Retrieved from: https://ncrtm.ed.gov/library/detail/state-vocational-rehabilitation-services-program-first-100-years.

Final Priority, Requirements, and Definitions: We will announce the final priority, requirements, and definitions in a notice in the Federal Register. We will determine the final priority, requirements, and definitions after considering responses to the proposed priority, requirements, and definitions and other information available to the Department. This document does not preclude us from proposing additional priorities, requirements, definitions, or selection criteria, subject to meeting applicable rulemaking requirements.

Note: This notice does not solicit applications. In any year in which we choose to use these priorities, requirements, or definitions, we invite applications through a notice in the Federal Register.

Executive Orders 12866, 13563, and 14094

Regulatory Impact Analysis

Under Executive Order 12866, the Office of Management and Budget (OMB) determines whether this regulatory action is “significant” and, therefore, subject to the requirements of the Executive order and subject to review by OMB. Section 3(f) of Executive Order 12866, as amended by Executive Order 14094, defines a “significant regulatory action” as an action likely to result in a rule that may—

(1) Have an annual effect on the economy of $200 million or more (adjusted every three years by the Administrator of Office of Information and Regulatory Affairs (OIRA) for changes in gross domestic product); or adversely affect in a material way the economy, a sector of the economy, productivity, competition, jobs, the environment, public health or safety, or State, local, territorial, or Tribal governments or communities;

(2) Create a serious inconsistency or otherwise interfere with an action taken or planned by another agency;

(3) Materially alter the budgetary impacts of entitlements, grants, user fees, or loan programs or the rights and obligations of recipients thereof; or

(4) Raise novel legal or policy issues for which centralized review would meaningfully further the President's priorities, or the principles set forth in the Executive order, as specifically authorized in a timely manner by the Administrator of OIRA in each case.

This proposed regulatory action is not a significant regulatory action subject to review by OMB under section 3(f) of Executive Order 12866, as amended by Executive Order 14094.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing the proposed priority, requirements, and definitions only on a reasoned determination that their benefits justify their costs. In choosing among alternative regulatory approaches, we selected those approaches that maximize net benefits. Based on the analysis that follows, the Department believes that this regulatory action is consistent with the principles in Executive Order 13563.

We have also determined that this regulatory action does not unduly interfere with State, local, territorial, and Tribal governments in the exercise of their governmental functions.

In accordance with these Executive orders, the Department has assessed the potential costs and benefits, both quantitative and qualitative, of this regulatory action. The potential costs are those resulting from statutory requirements and those we have determined as necessary for administering the Department's programs and activities.

In addition, we have considered the potential benefits of this regulatory action and have noted these benefits in the background section of this document.

Clarity of the Regulations

Executive Order 12866 and the Presidential memorandum “Plain Language in Government Writing” require each agency to write regulations that are easy to understand. The Secretary invites comments on how to make the proposed priority, requirements, and definitions easier to understand, including answers to questions such as the following:

• Are the requirements in the proposed regulations clearly stated?

• Do the proposed regulations contain technical terms or other wording that interferes with their clarity?

• Does the format of the proposed regulations (grouping and order of sections, use of headings, paragraphing) aid or reduce their clarity?

• Would the proposed regulations be easier to understand if we divided them into more (but shorter) sections?

• Could the description of the proposed regulations in the SUPPLEMENTARY INFORMATION section of the preamble be more helpful in making the proposed regulations easier to understand? If so, how?

• What else could we do to make the proposed regulations easier to understand?

To send any comments that concern how the Department could make these proposed regulations easier to understand, see the instructions in the ADDRESSES section.

Intergovernmental Review: This program is subject to Executive Order 12372 and the regulations in 34 CFR part 385. One of the objectives of the Executive order is to foster an intergovernmental partnership and a strengthened federalism. The Executive order relies on processes developed by State and local governments for coordination and review of proposed Federal financial assistance.

This document provides early notification of our specific plans and actions for this program.

Regulatory Flexibility Act Certification: The Secretary certifies that this proposed regulatory action would not have a significant economic impact on a substantial number of small entities.

The small entities that this proposed regulatory action would affect are institutions of higher education (IHEs) that meet the eligibility requirements in section 241(1) of the Higher Education Act of 1965, as amended, and public and private nonprofit organizations and agencies that partner with IHEs. The Secretary believes that the costs imposed on applicants by the proposed priority and requirements would be limited to paperwork burden related to preparing an application and that the benefits would outweigh any costs incurred by applicants.

Participation in this program is voluntary. For this reason, the proposed priority and requirements would impose no burden on small entities unless they applied for funding under the program. We expect that in determining whether to apply for any project under the Rehabilitation Training (RT) program funds, an eligible applicant would evaluate the requirements of preparing an application and any associated costs and weigh them against the benefits likely to be achieved by receiving a RT grant. Eligible applicants most likely would apply only if they determine that the likely benefits exceed the costs of preparing an application. The likely benefits include the potential receipt of a grant as well as other benefits that may accrue to an entity through its development of an application.

This proposed regulatory action would not have a significant economic impact on a small entity once it receives a grant because it would be able to meet the costs of compliance using the funds provided under this program. We invite comments from eligible small entities as to whether they believe this proposed regulatory action would have a significant economic impact on them and, if so, request evidence to support that belief.

Assessment of Educational Impact

In accordance with section 411 of the General Education Provisions Act, 20 U.S.C. 1221e-4, the Secretary particularly requests comments on whether these proposed regulations would require transmission of information that any other agency or authority of the United States gathers or makes available.

Accessible Format: On request to one of the program contact persons listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF, you must have Adobe Acrobat Reader, which is available free at the site. Y ou may also access Department documents published in the Federal Register by using the article search feature at www.federalregister.gov. Specifically, through the advanced search feature at this site, you can limit your search to documents published by the Department.

Glenna Wright-Gallo,
Assistant Secretary for Special Education and Rehabilitative Services.

[FR Doc. 2025-01337 Filed 1-16-25; 8:45 am]

BILLING CODE 4000-01-P